NATIONAL AERONAUTICS AND SPACE ADMINISTRATION

[Notice: (14-090)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Fran Teel, Mail Code JF000, National Aeronautics and Space Administration, Washington, DC 20546-0001.

FOR FURTHER INFORMATION CONTACT: Requests for additional information or copies of the information collection instrument(s) and instructions should be directed to Fran Teel, NASA PRA Officer, NASA Headquarters, 300 E Street SW., Mail Code JF000, Washington, DC 20546, (202) 358-2225.

SUPPLEMENTARY INFORMATION:

I. Abstract

The National Aeronautics and Space Administration (NASA) Office of Diversity and Equal Opportunity, in accordance with Title VII of the Civil Rights Act of 1964, the Age Discrimination Act of 1975 and 42 U.S.C. Section 2000e-16; 29 CFR Sections 1614.106 and 1614.108, is authorized to collect information on issues and allegations of a complaint of discrimination based on race, color, sex (including sexual harassment, religion, national origin, disability (physical or mental), reprisal, sexual orientation, gender identity, status as a parent or genetic information. This requirement for assurance of non-discrimination is long-standing and derives from civil rights implementing regulations. This information collection includes complaint investigations.

II. Method of Collection

Electronic Form.

III. Data

Title: NASA Complaint of Discrimination Form

OMB Number: 2700-XXXX

Type of review: Existing collection in use without an OMB control number.

Affected Public: Individuals

Estimated Number of Respondents: 85

Estimated Annual Responses: 80 per year

Estimated Time per Response: 30 minutes

Estimated Total Annual Burden Hours: 60 hours

Estimated Total Annual Cost: $500.00

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Fran Teel,
NASA PRA Clearance Officer.

[FR Doc. 2014-20487 Filed 8-27-14; 8:45 am]

BILLING CODE 7510-13-P